DEPARTMENT OF HOMELAND SECURITY

Coast Guard

33 CFR Part 100

[Docket No. USCG-2018-0725]

Special Local Regulations, Marine Events Within the Fifth Coast Guard District; Correction

AGENCY: Coast Guard, DHS.

ACTION: Notice of enforcement of regulation; correction.

SUMMARY: The Coast Guard published a document in the Federal Register of August 13, 2018, concerning a notice of enforcement of regulations of special local regulations for the Baltimore Air Show from October 4, 2018, through October 7, 2018. The document contained incorrect times for the enforcement periods.

FOR FURTHER INFORMATION CONTACT: Mr. Ron Houck, 410-576-2674.

SUPPLEMENTARY INFORMATION:

Corrections

In the Federal Register of August 13, 2018, in FR Doc. 2018-17282:

1. On page 39879, in the first column, correct the DATES caption to read:

DATES: The regulations in 33 CFR 100.501 will be enforced for the Baltimore Air Show regulated area listed in item b.23 in the table to § 100.501 from 2:45 p.m. through 4:30 p.m. on October 4, 2018, from 10:30 a.m. through 5 p.m. on October 5, 2018, from 11:30 a.m. through 5 p.m. on October 6, 2018, and from 11:30 a.m. through 5 p.m. on October 7, 2018.

2. On page 39879, in the second column, correct lines 12 through 16 to read:

Regulated area from 2:45 p.m. through 4:30 p.m. on October 4, 2018, from 10:30 a.m. through 5 p.m. on October 5, 2018, from 11:30 a.m. through 5 p.m. on October 6, 2018, and from 11:30 a.m. through 5.

Dated: September 12, 2018.
Joseph B. Loring,
Captain, U.S. Coast Guard, Captain of the Port Maryland-National Capital Region.

[FR Doc. 2018-20206 Filed 9-17-18; 8:45 am]

BILLING CODE 9110-04-P